DEPARTMENT OF ENERGY

Federal Energy Regulatory Commission

[Docket Nos. RP00-395-002, and RP96-348-010 (Not Consolidated)]

Panhandle Eastern Pipe Line Company; Notice of Compliance Filing

November 19, 2001.

Take notice that on November 13, 2001, Panhandle Eastern Pipe Line Company (Panhandle) tendered for filing as part of its FERC Gas Tariff, First Revised Volume No. 1, the pro forma tariff sheets listed on Appendix A attached to the filing.

Panhandle asserts that the purpose of this filing is to comply with Ordering Paragraph (B) of the Commission's October 12, 2001 Order on Panhandle's Order No. 637 Settlement issued in the above-referenced proceedings. 97 FERC ¶ 61,046 (2001).

Panhandle states that copies of this filing are being served on all affected customers, applicable state regulatory agencies and parties to this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29313 Filed 11-23-01; 8:45 am]

BILLING CODE 6717-01-P